COMMISSION ON CIVIL RIGHTS

Notice of Public Meeting of the Michigan Advisory Committee to the U.S. Commission on Civil Rights

AGENCY: U.S. Commission on Civil Rights.

ACTION: Announcement of meeting.

SUMMARY: Notice is hereby given, pursuant to the provisions of the rules and regulations of the U.S. Commission on Civil Rights (Commission) and the Federal Advisory Committee Act that the Michigan Advisory Committee (Committee) will hold web-based meetings on Wednesday April 28, 2021, Wednesday, May 5, 2021 and Friday, May 14, 2021, for the purpose of discussing the impact of the COVID-19 pandemic on voting rights in the state.

DATES:

Public Access Information

• Wednesday, April 28, 2021 at 2:00 p.m. Eastern Time

○ Register online (audio/visual): https://bit.ly/38J495F

○ Telephone (audio only): Dial 800-360-9505; Access code: 199 883 5939

• Wednesday May 5, 2021 at 3:00 p.m. Eastern Time

○ Register online (audio/visual): https://bit.ly/3lkTS4z

○ Telephone (audio only) Dial: 800-360-9505; Access code: 199 562 1419

• Friday, May 14, 2021 at 2:00 p.m. Eastern Time

○ Register online (audio/visual): https://bit.ly/3cC0U16

○ Telephone (audio only) Dial: 800-360-9505; Access code: 199 883 5939

FOR FURTHER INFORMATION CONTACT: Melissa Wojnaroski, DFO, at mwojnaroski@usccr.gov or 202-618-4158.

SUPPLEMENTARY INFORMATION: Members of the public can listen to the discussion. This meeting is available to the public through the above listed toll-free number or online through the above registration link. An open comment period will be provided to allow members of the public to make a statement as time allows. Callers can expect to incur regular charges for calls they initiate over wireless lines, according to their wireless plan. The Commission will not refund any incurred charges. Callers will incur no charge for calls they initiate over land-line connections to the toll-free telephone number. Persons who are deaf or hard of hearing may also follow the proceedings by first calling the Federal Relay Service at 1-800-877-8339 and providing the Service with the conference call number and conference ID number.

Members of the public are also entitled to submit written comments; the comments must be received in the regional office within 30 days following the meeting. Written comments may be emailed to Melissa Wojnaroski at mwojnaroski@usccr.gov. Persons who desire additional information may contact the Regional Programs Unit Office at 202-618-4158.

Records generated from this meeting may be inspected and reproduced at the Regional Programs Unit Office, as they become available, both before and after the meeting. Records of the meeting will be available via https://www.facadatabase.gov/FACA/FACAPublicViewCommitteeDetails?id=a10t0000001gzjPAAQ under the Commission on Civil Rights, Michigan Advisory Committee link. Persons interested in the work of this Committee are also directed to the Commission's website, http://www.usccr.gov, or may contact the Regional Programs Unit office at the above email or phone number.

Agenda

Welcome and Roll Call

Discussion: COVID-19 & Voting Rights in Michigan

Public Comment

Adjournment

Dated: March 29, 2021.
David Mussatt,
Supervisory Chief, Regional Programs Unit.

[FR Doc. 2021-06792 Filed 4-1-21; 8:45 am]

BILLING CODE 6335-01-P